DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

PRAC & PRAC-Y: Small Nuclear Proteins Found in Prostate and Colon Cancer, and Uses Thereof

Ira Pastan et al. (NCI)

DHHS Reference No. E-053-01/0, filed 09 Apr 2001

Licensing Contact: Richard Rodriguez; 301/496-7056, ext. 287; e-mail: rodrigur@od.nih.gov

Prostate cancer is the most commonly diagnosed cancer and the second leading cause of cancer death in males in the United States. Currently, there are no curative therapies available for this cancer and therefore, novel approaches are needed to treat this disease. The present invention claims a small, nuclear protein, PRAC (Prostate/Rectum And Colon Protein) that could be used to diagnose and/or treat prostate or colon cancers. In conjunction with the composition of matter claims, defined methods of use might include: (1) Immunogenic fragments to elicit T cell responses against cells that express PRAC; (2) gene therapy applications through the use of appropriate expression vectors containing the nucleic acid sequences of PRAC; (3) detection and potential staging of cancers expressing PRAC. These disclosed technologies could provide new and exciting methodologies to treat prostate and/or colon cancer.

Biologically Active Macrolides, Compositions and Uses Thereof

Michael R. Boyd (NCI), Kirk R. Gustafson (NCI), and Charles L. Cantrell (USDA)

DHHS Reference No. E-203-00/0, filed 24 Jul 2000

Licensing Contact: Elaine White; 301/496-7056, ext. 282; e-mail: gesee@od.nih.gov

The current invention embodies the identification of a novel class of potent vacuolar-type (H+)-ATPase-inhibitory compounds. Vacuolar-type (H+)-ATPases are present in many tissues and cells of the body and are involved in the maintenance of various physiological functions. The modification of these functions, via inhibition of vacuolar-type (H+)-ATPases, may represent an effective means of treating various disease states, including Alzheimer's disease, glaucoma, and osteoporosis. In addition, these inhibitors may also be of particular value for use against cancer, as vacuolar-type (H+)-ATPases have been implicated in processes relating to cellular proliferation, angiogenesis, tumor cell invasiveness, metastasis, and drug resistance.

Dated: May 24, 2001.
Jack Spiegel,
Director, Division of Technology, Development and Transfer, Office of Technology Transfer, National Institutes of Health.

[FR Doc. 01-13886 Filed 6-1-01; 8:45 am]

BILLING CODE 4140-01-P